COMMITTEE FOR PURCHASE FROM PEOPLE WHO ARE BLIND OR SEVERELY DISABLED

Procurement List; Proposed Additions and Deletions

AGENCY: Committee for Purchase From People Who Are Blind or Severely Disabled.

ACTION: Proposed Additions to and deletions from the Procurement List.

SUMMARY: The Committee is proposing to add a product and services to the Procurement List that will be furnished by nonprofit agencies employing persons who are blind or have other severe disabilities, and delete products and services previously furnished by such agencies.

DATES: Comments must be received on or before: 12/10/2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product:

NSN(s)—Product Name(s): 3990-01-187-3615—Ratchet Strap Assembly

Mandatory for: Defense Logistics Agency Troop Support

Mandatory Source(s) of Supply: Mississippi Industries for the Blind, Jackson, MS

Contracting Activity: Defense Logistics Agency Troop Support

Distribution: B-List

Services:

Service Type: Custodial Service

Mandatory for: U.S. Army, U.S. Military Academy, First Class Club and Grant Hall, 681 Hardee Place, West Point, NY

Mandatory Source(s) of Supply: Access: Supports for Living Inc., Middletown, NY

Contracting Activity: Dept of the Army, W6QM MICC-West Point

Service Type: Retail Operation Support Service

Mandatory for: GSA FAS, GSA Global Supply Store 5250 Gibson Avenue, Joint Base Elmendorf, Richardson, AK

Mandatory Source(s) of Supply: M. C. Resource Management, Anchorage, AK

Contracting Activity: General Services Administration, Federal Acquisition Service, Washington, DC

Service Type: Mailroom Support Service

Mandatory for: U.S. Air National Guard, Air National Guard Readiness Center Receiving & Document Control Center, 3500 & 3501 Fetchet Avenue, Joint Base Andrews, MD

Mandatory Source(s) of Supply: ServiceSource, Inc., Oakton, VA

Contracting Activity: Dept of the Army, W39L USA NG Readiness Center

Deletions

The following products and services are proposed for deletion from the Procurement List:

Products:

NSN(s)—Product Name(s): 7520-00-282-2137—Trimmer, Paper, 7520-00-224-7621—Trimmer, Paper, Drop Knife, Beige, 24″ x 24″

Mandatory Source(s) of Supply: The Lighthouse for the Blind, Inc. (Seattle Lighthouse), Seattle, WA

Contracting Activity: General Services Administration, New York, NY

NSN(s)—Product Name(s): 7195-01-484-0017—Bulletin Board, Granite Finish, 36″ x 24″, Aluminum Frame

Mandatory Source(s) of Supply: The Lighthouse for the Blind, Inc. (Seattle Lighthouse), Seattle, WA

Contracting Activities: Department of Veterans Affairs; General Services Administration, Philadelphia, PA

Services:

Service Type: Document Destruction Service

Mandatory Source(s) of Supply: SourceAmerica (Prime Contractor)

Contracting Activity: Dept. of the Treasury/Internal Revenue Service, Washington, DC

Mandatory for: Internal Revenue Service Offices at the following locations:

Cross Point Tower One: 900 Chelmsford Street, Lowell, MA

53 North Sixth Street, New Bedford, MA

AccessPoint RI, Cranston, RI (Subcontractor)

921 N. Nova Boulevard, Holly Hill, FL

Challenge Enterprises of North Florida, Inc., Green Cove Springs, FL (Subcontractor)

675 W. Moana Lane, Reno, NV

Beacon Group, Inc., Tucson, AZ (Subcontractor)

Jackson: 234 Louis Glick Hwy, Jackson, MI, Community Enterprises of St. Clair County, Port Huron, MI (Subcontractor)

2628 S. Cherry Avenue, Fresno, CA

5104 N. Blyth, Fresno, CA

890 West Ashlan, Fresno, CA

1728 Van Ness, Fresno, CA

The ARC Fresno/Madera Counties, Fresno, CA (Subcontractor)

Mobile: 1110 Montlimar Dr., Mobile, AL

One Pensacola Plaza: 125 W Romana Street, Pensacola, FL

Wiregrass Rehabilitation Center, Inc., Dothan, AL (Subcontractor)

Springfield: 3333 S. National Ave, Springfield, MO

El Dorado: 1115 North Madison Ave., El Dorado, AR

Pine Bluff: 100 East 8th Ave., Pine Bluff, AR

United Cerebral Palsy of Central Arkansas Little Rock, AR (Subcontractor)

Effingham: 405 South Banker Street, Effingham, IL

United Cerebral Palsy of the Land of Lincoln, Springfield, IL (Subcontractor)

Indy Bldg: 7525 East 39th Street, Indianapolis, IN

Evansville: 7409 Eagle Crest Blvd., Evansville, IN

Shares Inc., Shelbyville, IN (Subcontractor)

Creekside IV: 12 Cadillac Dr., Ste 400, Brentwood, TN

The Orange Grove Center, Inc., Chattanooga, TN (Subcontractor)

Defiance: 208 Perry St., Defiance, OH

Lorain: 300 Broadway, Lorain, OH

Painesville: 8 North State Street, Painesville, OH

Steubenville: 500 Market Street, Steubenville, OH

Warrendale: 547 Keystone Drive, Warrendale, PA

Weaver Industries, Inc., Akron, OH (Subcontractor)

11620 Caroline Road, Philadelphia, PA

9815 B Roosevelt Blvd., Philadelphia, PA

Opportunity Center, Incorporated, Wilmington, DE (Subcontractor)

Greensboro: 2303 W. Meadowview Road, Greensboro, NC

Winston Salem: 251 N. Main Street, Winston Salem, NC

OE Enterprises, Inc., Hillsborough, NC (Subcontractor)

201 Como Park Blvd., Cheektowaga, NY

1314 Griswald Plaza, Erie, PA

7th & State Street, Erie, PA

Lifetime Assistance, Inc., Rochester, NY (Subcontractor)

101 Park Deville Drive, Columbia, MO

919 Jackson Street, Chillicothe, MO

3702 W. Truman Blvd., Suite 113, Jefferson City, MO

Mission: 5799 Broadmoor St., Mission, KS

JobOne, Independence, MO

Chillicothe: 1534 North Bridge St., Chillicothe, OH

The Plains: 70 N. Plains Road, The Plains, OH

Zanesville: 710 Main St., Zanesville, OH

Greene, Inc., Xenia, OH (Subcontractor)

11 South 12th Street, Richmond, VA

600 Main Street, Richmond, VA

Goodwill Services, Inc., Richmond, VA (Subcontractor)

6021 Durand Avenue, Suite 600, Racine, WI

Janesville: 20 E. Milwaukee St., Ste. 204, Janesville, WI

Sheboygan: 2108 Kohler Memorial Dr., Sheboygan, WI

Goodwill Industries of Southeastern Wisconsin, Milwaukee, WI (Subcontractor)

2201 Cantu Court, Sarasota, FL

300 Lock Road, Deerfield Beach, FL

Goodwill Industries of South Florida, Miami, FL (Subcontractor)

Multiple Locations, Chicago, IL

Glenkirk, Northbrook, IL (Subcontractor)

Grand Rapids: 678 Front Street NW., Grand Rapids, MI

Portage: 8075 Creekside Drive, Portage, MI

South Bend: One Michiana Square, South Bend, IN

Benton Harbor: 777 Riverview Drive, Benton Harbor, MI

Gateway, Berrien Springs, MI (Subcontractor)

Corporate Plaza 1: 8100 Corporate Drive, Hyattsville, MD

Customer Service Site: 120 Charles Street, Baltimore, MD

Athelas Institute, Inc., Hyattsville, MD (Subcontractor)

10 Metrotech Center, New York, NY

10 Richmond Terrace, New York, NY

107 Charles Lindbergh Blvd., Garden City, NY

30 Montgomery Street, Jersey City, NJ

518A East Main Street, Riverhead, NY

NYSARC, Inc., NYC Chapter, New York, NY (Subcontractor)

Beaufort: 1212 Charles Street, Beaufort, SC

Florence County Disabilities and Special Needs Board, Florence, SC (Subcontractor)

Barry S. Lineback,
Director, Business Operations.

[FR Doc. 2016-27214 Filed 11-9-16; 8:45 am]

BILLING CODE 6353-01-P